COMMISSION ON CIVIL RIGHTS

Notice of Public Meeting of the U.S. Virgin Islands Advisory Committee to the U.S. Commission on Civil Rights; Revision to Meeting Date and Time

AGENCY: Commission on Civil Rights.

ACTION: Revision to meeting date and time.

SUMMARY: The Commission on Civil Rights published a notice in the Federal Register on October 7, 2024, regarding the November 12th business meeting of the U.S. Virgin Islands Advisory Committee. The notice can be found in FR Doc. 2024-23121, located in the second and third columns of page 81039 and continuing into the first column of page 81040. This document provides the correct date and time for the Committee's next meeting.

DATES: Wednesday, November 13, 2024, from 11 a.m. to 12:30 p.m. Atlantic Time.

ADDRESSES: This meeting will be held via Zoom.

• Registration Link (Audio/Visual): https://bit.ly/4dnFimk.

• Join by Phone (Audio Only): 1-833-435-1820 USA Toll Free; Webinar ID: 160 093 2791#.

FOR FURTHER INFORMATION CONTACT: David Barreras, Designated Federal Officer, at dbarreras@usccr.gov or 1-202-656-8937.

Dated: October 29, 2024.
David Mussatt,
Supervisory Chief, Regional Programs Unit.

[FR Doc. 2024-25477 Filed 10-31-24; 8:45 am]

BILLING CODE P